COMMITTEE FOR PURCHASE FROM PEOPLE WHO ARE BLIND OR SEVERELY DISABLED

Procurement List Proposed Addition; Corrections

In the document appearing on page 56634, FR Doc. 01-28211, in the issue of November 9, 2001, in the third column the Committee published a notice of deletions to the Procurement List of, among other things, Enamel, Lacquer, National Stock Number (NSN) 8010-00-942-8712. This notice is amended to correct the NSN to 8010-00-941-8712.

Sheryl D. Kennerly,
Director, Information Management.

[FR Doc. 01-29257 Filed 11-21-01; 8:45 am]

BILLING CODE 6353-01-P